DEPARTMENT OF JUSTICE

Antitrust Division

Notice Pursuant to the National Cooperative Research and Production Act of 1993—Digital Manufacturing Design Innovation Institute

Notice is hereby given that, on September 30, 2020, pursuant to Section 6(a) of the National Cooperative Research and Production Act of 1993, 15 U.S.C. 4301 et seq. (“the Act”), Digital Manufacturing Design Innovation Institute (“DMDII”) has filed written notifications simultaneously with the Attorney General and the Federal Trade Commission disclosing changes in its membership. The notifications were filed for the purpose of extending the Act's provisions limiting the recovery of antitrust plaintiffs to actual damages under specified circumstances. Specifically, RTMA, Rochester, NY; American Machining Efficiency Consultants (AMEC-LLC), Shady Shores, TX; Maxxion Technologies, Hoffman Estates, IL; Aerobotix, Madison, AL; RAAD360, Newark, DE; Cyberstrike Solutions, Williamsburg, IA; Fuzehub, Albany, NY; Los Alamos National Laboratory, Los Alamos, NM; Innovative Manufacturing and Design (M&D), Greenville, SC; Canvas GFX, Boston, MA; RPI Group, Fredricksburg, VA; Verdasee, Gurnee, IL; RGBSI, Troy, MI; Magna Machine Company, Cincinnati, OH; Plethora Corporation, Marietta, GA; Aeroserv Inc., Mason, OH; BASF, Florham Park, NJ; Cleaning Technologies Group, Cincinnati, OH; Eccalon, Hanover, MD; General Stress Optics, Chicago, IL; Printforia, Washougal, WA; Delaware Valley Industrial Resource Center (DVIRC), Philadelphia, PA; and Defense Logistics Agency, Washington DC have been added as parties to this venture.

Also, TYGES International, Williamsburg, VA; Simio, Sewickely, PA; Xometry (formerly MakeTime), Lexington, KY; Mantel Technologies, Fort Collins, CO; SWARM Engineering, San Juan Capistrano, CA; EC Solutions, Newark, DE; and ClearObject, Fishers, IN have withdrawn as parties from this venture.

No other changes have been made in either the membership or planned activity of the group research project. Membership in this group research project remains open, and DMDII intends to file additional written notifications disclosing all changes in membership.

On January 5, 2016, DMDII filed its original notification pursuant to Section 6(a) of the Act. The Department of Justice published a notice in the Federal Register pursuant to Section 6(b) of the Act on March 9, 2016 (81 FR 12525).

The last notification was filed with the Department on June 30, 2020. A notice was published in the Federal Register pursuant to Section 6(b) of the Act on July 16, 2020 (85 FR 43260).

Suzanne Morris,
Chief, Premerger and Division Statistics, Antitrust Division.

[FR Doc. 2020-22862 Filed 10-14-20; 8:45 am]

BILLING CODE P